DEPARTMENT OF COMMERCE

National Telecommunications and Information Administration

Commerce Spectrum Management Advisory Committee Meeting

AGENCY: National Telecommunications and Information Administration, U.S. Department of Commerce.

ACTION: Notice of open meeting.

SUMMARY: This notice announces a public meeting of the Commerce Spectrum Management Advisory Committee (Committee). The Committee provides advice to the Assistant Secretary of Commerce for Communications and Information and the National Telecommunications and Information Administration (NTIA) on spectrum management policy matters.

DATES: The meeting will be held December 19, 2023, from 2:00 p.m. to 5:00 p.m., Eastern Standard Time (EST).

ADDRESSES: The meeting will be held at the NCTA—The internet and Television Association, 25 Massachusetts Avenue NW, Suite 100, Washington, DC 20001. Public comments may be emailed to arichardson@ntia.gov or mailed to Commerce Spectrum Management Advisory Committee, National Telecommunications and Information Administration, 1401 Constitution Avenue NW, Room 4600, Washington, DC 20230.

FOR FURTHER INFORMATION CONTACT: Antonio Richardson, Designated Federal Officer, at (202) 482-4156 or arichardson@ntia.gov; and/or visit NTIA's website at https://www.ntia.gov/category/csmac.

SUPPLEMENTARY INFORMATION:

Background: The Committee provides advice to the Assistant Secretary of Commerce for Communications and Information on needed reforms to domestic spectrum policies and management in order to: license radio frequencies in a way that maximizes public benefits; keep wireless networks as open to innovation as possible; and make wireless services available to all Americans. See Charter at https://www.ntia.doc.gov/files/ntia/publications/csmac-charter-2021.pdf.

This Committee is subject to the Federal Advisory Committee Act (FACA), 5 U.S.C. App. 2, and is consistent with the National Telecommunications and Information Administration Act, 47 U.S.C. 904(b). The Committee functions solely as an advisory body in compliance with the FACA. For more information about the Committee visit: http://www.ntia.gov/category/csmac.

Matters To Be Considered: The planned meeting for Tuesday, December 19, 2023, will be the last meeting of this term and will include the final reports and recommendations from the Citizens Broadband Radio Service (CBRS), 6G wireless systems, and Electromagnetic Compatibility Improvements (ECI) subcommittees. NTIA will post a detailed agenda on its website, http://www.ntia.gov/category/csmac, prior to the meeting. To the extent that the meeting time and agenda permit, any member of the public may address the Committee regarding the agenda items. See Open Meeting and Public Participation Policy, available at http://www.ntia.gov/category/csmac.

Time and Date: The meeting will be held on December 19, 2023, from 2:00 p.m. to 5:00 p.m., Eastern Standard Time (EST). The meeting time and the agenda topics are subject to change. Please refer to NTIA's website, http://www.ntia.gov/category/csmac, for the most up-to-date meeting agenda and access information.

Place: The meeting will be held at the NCTA—The internet and Television Association, 25 Massachusetts Avenue NW, Suite 100, Washington, DC 20001. Individuals requiring accommodations are asked to notify Mr. Richardson at (202) 482-4156 or arichardson@ntia.gov at least ten (10) business days before the meeting.

Status: Interested parties are invited to join the teleconference and to submit written comments to the Committee at any time before or after the meeting. Parties wishing to submit written comments for consideration by the Committee in advance of the meeting are strongly encouraged to submit their comments in PDF and/or Microsoft Word format via electronic mail to arichardson@ntia.gov. Comments may also be sent via postal mail to Commerce Spectrum Management Advisory Committee, National Telecommunications and Information Administration, 1401 Constitution Avenue NW, Room 4600, Washington, DC 20230. It would be helpful if paper submissions also include a compact disc (CD) that contains the comments in one or both of the file formats specified above. CDs should be labeled with the name and organizational affiliation of the filer. Comments must be received five (5) business days before the scheduled meeting date in order to provide sufficient time for review. Comments received after this date will be distributed to the Committee but may not be reviewed prior to the meeting. Additionally, please note that there may be a delay in the distribution of comments submitted via postal mail to Committee members.

Records: NTIA maintains records of all Committee proceedings. Committee records are available for public inspection at NTIA's Washington, DC office at the address above. Documents including the Committee's charter, member list, agendas, minutes, and reports are available on NTIA's website at http://www.ntia.gov/category/csmac.

Stephanie Weiner,
Chief Counsel, National Telecommunications and Information Administration.

[FR Doc. 2023-26425 Filed 11-30-23; 8:45 am]

BILLING CODE 3510-60-P